DEPARTMENT OF HEALTH AND HUMAN SERVICES

Health Resources and Services Administration

Agency Information Collection Activities: Submission to OMB for Review and Approval; Public Comment Request; Information Collection Request Title: Reconciliation Tool for the Teaching Health Center Graduate Medical Education Program, OMB No. 0915-0342—Extension

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than July 7, 2017.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: Reconciliation Tool for the Teaching Health Center Graduate Medical Education Program, OMB No. 0915-0342—Extension

Abstract: The Teaching Health Center Graduate Medical Education (THCGME) program, as authorized by section 340H of the Public Health Service (PHS) Act, awards payment for both direct and indirect expenses to support training for primary care residents in community based ambulatory patient care settings. Direct medical expenses payments are designed to compensate eligible teaching health centers for those expenses directly associated with resident training, while indirect medical expenses payments are intended to compensate for the additional costs of training residents in such programs.

Need and Proposed Use of the Information: THCGME program payments are prospective payments, and the statute provides for a reconciliation process, through which overpayments may be recouped and underpayments may be adjusted at the end of the fiscal year. This data collection instrument gathers information relating to the number of resident full-time equivalents (FTEs) in THC training programs in order to reconcile payments for both direct and indirect expenses.

Likely Respondents: The likely responders to the THCGME Reconciliation Tool are THCGME program award recipients.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
THCGME Reconciliation Tool | 59 | 1 | 59 | 2 | 118
Total | 59 |  | 59 |  | 118

Jason E. Bennett,
Director, Division of the Executive Secretariat.

[FR Doc. 2017-11714 Filed 6-6-17; 8:45 am]

BILLING CODE 4165-15-P